DEPARTMENT OF THE INTERIOR

Bureau of Land Management

[CA-930-5420-EU-B136; CACA 42382]

Disclaimer of Interest in Lands; California

AGENCY: Bureau of Land Management, Interior.

ACTION: Notice.

SUMMARY: Mr. Warren Hopkins has applied for a recordable disclaimer of interest in certain lands by the United States. The interest proposed to be disclaimed is fee title and not a request to validate an RS 2477 road.

DATES: Comments should be received by June 6, 2005.

ADDRESSES: Comments or objections should be sent to: Chief, Branch of Lands Management, 2800 Cottage Way, Rm. 1834, Sacramento, California 95825.

FOR FURTHER INFORMATION CONTACT: Kathy Gary, BLM California State Office, 2800 Cottage Way, Sacramento, California 95825; 916-978-4677.

SUPPLEMENTARY INFORMATION: Mr. Warren Hopkins filed an application requesting that the United States issue a recordable disclaimer of the United States interest pursuant to Section 315 of the Federal Land Policy and Management Act of 1976 (43 U.S.C. 1745), for the following land:

Mount Diablo Meridian

T. 45 N., R. 13 E.,

Land northerly of lot 4, Section 27, lying below the mean high water line in the bed of Goose Lake. Said mean high water line of Goose Lake is subject to change through natural processes.

The above described land was Quit Claimed to the State of California, on September 9, 1942 under the Act of February 3, 1905. Mr. Warren Hopkins is seeking clear title concerning the property Boundary in Goose Lake. The official records of the BLM were reviewed and a determination was made that lands northward of lot 4, Section 27, lying below the mean high water line of Goose Lake, were reconveyed to the State of California. As a result, the United States would not be precluded from issuing a disclaimer of interest to lands below the mean high water line of Goose Lake. The United States has no claim to or interest in the land described and issuance of a recordable disclaimer will remove a cloud of title to the land.

Comments, including names and street addresses of respondents will be available for public review at the California State Office, Bureau of Land Management, 2800 Cottage Way, Sacramento, California during regular business hours 8:30 a.m. to 4:30 p.m. Monday through Friday, except holidays. Individual respondents may request confidentiality. If you wish to withhold your name or address from public review or from disclosure under the Freedom of Information Act, you must state this prominently at the beginning of your comments. Such requests will be honored to the extent allowed by law. All submissions from organizations or businesses and from individual identifying themselves as representatives or officials of organization or business will be made available for public inspection in their entirety.

Accordingly, a recordable disclaimer of interest will be issued no sooner than August 4, 2005.

Dated: March 9, 2005.
Howard Stark,
Chief, Branch of Lands Management.

[FR Doc. 05-9089 Filed 5-5-05; 8:45 am]

BILLING CODE 4310-40-P